DEPARTMENT OF COMMERCE

Foreign-Trade Zones Board

[S-135-2017]

Approval of Subzone Status; Ekornes Inc.; Somerset, New Jersey

On September 7, 2017, the Executive Secretary of the Foreign-Trade Zones (FTZ) Board docketed an application submitted by the New Jersey Department of State, grantee of FTZ 44, requesting subzone status subject to the existing activation limit of FTZ 44, on behalf of Ekornes Inc., in Somerset, New Jersey.

The application was processed in accordance with the FTZ Act and Regulations, including notice in the Federal Register inviting public comment (82 FR 42784, September 12, 2017). The FTZ staff examiner reviewed the application and determined that it meets the criteria for approval. Pursuant to the authority delegated to the FTZ Board Executive Secretary (15 CFR 400.36(f)), the application to establish Subzone 44J was approved on November 13, 2017, subject to the FTZ Act and the Board's regulations, including Section 400.13, and further subject to FTZ 44's 407.5- acre activation limit.

Dated: November 21, 2017.
Andrew McGilvray,
Executive Secretary.

[FR Doc. 2017-25653 Filed 11-27-17; 8:45 am]

BILLING CODE 3510-DS-P